DEPARTMENT OF LABOR

Mine Safety and Health Administration

30 CFR Chapter I

RIN 1219-AB71

Safety and Health Management Programs for Mines

AGENCY: Mine Safety and Health Administration, Labor.

ACTION: Notice of public meetings; notice of close of comment period.

SUMMARY: The Mine Safety and Health Administration (MSHA) will hold three public meetings to gather information about effective, comprehensive safety and health management programs at mines. Public meetings will include presentations on model programs by representatives from: Academia; safety and health professionals; industry organizations; worker organizations; and government agencies. Model programs should be designed to prevent injuries and illnesses, maintain compliance with the Federal Mine Safety and Health Act, safety and health standards and regulations, and include participation of everyone from the Chief Executive Officer (CEO) to workers and contractors. Model programs should involve hazard identification and control and training and retraining of workers. The Agency will use information from the meetings to help develop a proposed rule for Safety and Health Management Programs for mines which will allow miners and operators to be proactive in their approach to health and safety.

DATES: All comments must be received by midnight Eastern Standard Time on December 17, 2010. MSHA will hold three meetings on October 8, 2010, October 12, 2010, and October 14, 2010 at the locations listed in the SUPPLEMENTARY INFORMATION section of this notice.

ADDRESSES: Comments must be identified with “RIN 1219-AB71” and may be sent by any of the following methods:

(1) Federal e-Rulemaking Portal: http://www.regulations.gov. Follow the instructions for submitting comments.

(2) Electronic mail: zzMSHA-comments@dol.gov. Include “RIN 1219-AB71” in the subject line of the message.

(3) Facsimile: 202-693-9441. Include “RIN 1219-AB71” in the subject line of the message.

(4) Regular Mail: MSHA, Office of Standards, Regulations, and Variances, 1100 Wilson Boulevard, Room 2350, Arlington, Virginia 22209-3939.

(5) Hand Delivery or Courier: MSHA, Office of Standards, Regulations, and Variances, 1100 Wilson Boulevard, Room 2350, Arlington, Virginia. Sign in at the receptionist's desk on the 21st floor.

Comments can be accessed electronically at http://www.msha.gov under the Rules and Regs link.

Comments may also be reviewed at the Office of Standards, Regulations, and Variances, 1100 Wilson Boulevard, Room 2350, Arlington, Virginia. Sign in at the receptionist's desk on the 21st floor.

MSHA maintains a list that enables subscribers to receive e-mail notification when rulemaking documents are published in the Federal Register. To subscribe, go to http://www.msha.gov/subscriptions/subscribe.aspx.

FOR FURTHER INFORMATION CONTACT: Patricia W. Silvey, Director, Office of Standards, Regulations, and Variances, MSHA, at silvey.patricia@dol.gov (e-mail), 202-693-9440 (voice), or 202-693-9441 (facsimile).

SUPPLEMENTARY INFORMATION: All meetings will start at 9 a.m. and conclude by 5 p.m. The agenda for the meetings will include:

• Registration,

• Opening Statement,

• Presentations,

• Comments from the Public, and

• Closing Statement.

MSHA requested academia, safety and health professionals, industry organizations, worker organizations, and government agencies to present information at these meetings on best practices for safety and health programs. MSHA is particularly interested in information on programs which include active involvement of workers from the development of the program through implementation to evaluation. Requests to present at a meeting may be made by telephone (202-693-9440), facsimile (202-693-9441), or mail (MSHA, Office of Standards, Regulations and Variances, 1100 Wilson Boulevard, Room 2350, Arlington, Virginia 22209-3939).

The meetings will be conducted in an informal manner. Presenters and attendees may provide written information to the court reporter for inclusion in the rulemaking record. MSHA will make transcripts of the meetings available on MSHA's Web site http://www.msha.gov, and include them in the rulemaking record.

The meetings will be held on the following dates at the locations indicated:

Date | Location | Contact number
October 8, 2010 | MSHA National Office, 1100 Wilson Boulevard, 25th Floor Conference Room, Arlington, VA 22209 | (202) 693-9440
October 12, 2010 | Embassy Suites Sacramento-Riverwalk Promenade, 100 Capitol Mall, Sacramento, CA 95814 | (916) 326-5000
October 14, 2010 | Omni William Penn Hotel, 530 William Penn Place, Pittsburgh, PA 15219 | (412) 281-7100

MSHA has reviewed a number of guidelines for safety and health management programs, including:

• The Occupational Safety and Health Administration's (OSHA's) Voluntary Protection Program and its Safety and Health Program Management Guidelines;

• The American National Standards Institute's (ANSI's) and American Industrial Hygiene Association's (AIHA's) ANSI/AIHA's Z10-2005, Occupational Health and Safety Management Systems;

• The International Standards Organization's (ISO's) ISO 9001:2008 (E), Quality management systems—Requirements; and

• The British Standards Institution's (BSI's) BS OHSAS 18001:2007, Occupational Health and Safety Assessment Series, Occupational health and safety management systems—Requirements.

The Guidelines reveal that the components of effective safety and health management programs generally include:

1. Management Commitment.

2. Worker Involvement.

3. Hazard Identification, including workplace inspections for violations of mandatory health and safety standards.

4. Hazard Prevention and Control.

5. Safety and Health Training.

6. Program Evaluation.

Year after year, many companies experience low injury and illness rates and low violation rates. For these companies, preventing harm to their workers is more than compliance with safety and health requirements; it reflects the embodiment of a culture of safety—from the CEO to the worker to the contractor. This culture of safety derives from a commitment to a systematic, effective, comprehensive safety and health management program, implemented with the full participation of all workers. MSHA understands that many companies have developed and implemented effective safety and health management programs. At the meetings, you will hear about some of these programs. The Agency is interested in receiving comments on all aspects of safety and health management programs.

MSHA will accept written comments and information for the record from any interested party, including those not presenting oral statements.

Dated: September 2, 2010.
Joseph A. Main,
Assistant Secretary of Labor, for Mine Safety and Health.

[FR Doc. 2010-22403 Filed 9-8-10; 8:45 am]

BILLING CODE 4510-43-P